Title 3—

The President

Proclamation 10625 of September 15, 2023

Constitution Day and Citizenship Day, and Constitution Week, 2023

By the President of the United States of America

A Proclamation

More than two centuries ago, our Founders set in motion the most extraordinary experiment of self-government the world has ever known with three simple words: “We, the People.” These timeless words from our Constitution help capture the very idea of America—that we are all created equal and deserve to be treated equally throughout our lives. On Constitution Day and Citizenship Day, and during Constitution Week, we recommit to doing the work of upholding our Constitution, defending our democracy, and building an America that is more prosperous, more equal, and more just.

History requires us to acknowledge that we have never fully lived up to the promise of America. But we have never fully walked away from it either. Burning inside each generation of Americans is the flame of liberty lit at Independence Hall that has guided our Nation from the horrors of slavery to the justice of abolition, from the tragedy of a Civil War to the preservation of our Union, and from economic turmoil and world wars to movements for universal suffrage and civil rights. Our commitment to a Government—of, by, and for the people—has ensured that our Nation remains a citadel of liberty.

American democracy hinges on a fundamental freedom guaranteed by our Constitution: the right to vote. In our own time, as in generations past, this freedom has been under attack. The Supreme Court weakened the landmark Voting Rights Act, and States have enacted dozens of anti-voting laws in the years since. In one of the darkest moments of our Nation's history, on January 6, 2021, we saw the violent and deadly insurrection at the Capitol perpetrated by election deniers. My Administration will not allow the right to vote and have that vote counted be taken from the American people. This year, I signed the Electoral Count Reform Act to preserve the will of the people and help protect the peaceful transfer of power. And I continue to urge the Congress to pass the Freedom to Vote Act and the John Lewis Voting Rights Advancement Act to restore and expand voting protections and to prevent voter suppression.

But there is still more work to do. Protecting our civil rights is the duty of each and every American. In the wake of the Supreme Court's decision to eliminate a woman's right to choose—a constitutional right that it had recognized for nearly 50 years—my Administration took action to protect access to reproductive care, and we are continuing to call on the Congress to restore the protections of Roe v. Wade. As some seek to erase our history and ban books, we are making it clear that we cannot just choose to learn what we want to know and not what we should know. We must learn everything—the good, the bad, and the truth of who we are as a Nation. That is what great nations do. And we are a great Nation. The diversity that defines America is a strength, not a weakness, and we will continue to fight for the full inclusion of all Americans in the promise of America.

As we celebrate our Constitution, we also celebrate the rights and responsibilities of citizenship. We honor everyday Americans who always do extraordinary things. And we welcome our newest citizens and immigrants—many of whom left the only home they have ever known with hopes of pursuing the American Dream, bringing new energy and ideas that move our Nation forward. That is why, on day one of my Administration, I sent the Congress my plan to reform the immigration system. And until the Congress acts, we will keep using every tool we have to make immigration more orderly, safe, and humane.

America is founded on an idea—one stronger than any army, bigger than any ocean, and more powerful than any dictator or tyrant. It is the most powerful idea in the history of the world, and it beats in the hearts of the people in this country. It is the idea that America guarantees that everyone be treated with dignity. It gives hate no safe harbor. It instills in everyone the belief that, no matter where you start in life, there is nothing you cannot achieve. Whether your ancestors were native to these shores or they were brought here forcibly and enslaved—or whether they immigrated generations back, like my family from Ireland, or they just arrived in search of a better life for their families—the idea of America unites all of us. Today and every day, we celebrate this idea imagined in our Constitution and preserved through the noble labors of Americans past and present. And we reaffirm our commitment to ensuring this idea lives on for generations to come.

To honor the timeless principles enshrined in our Constitution, the Congress has, by joint resolution of February 29, 1952 (36 U.S.C. 106), designated September 17 as “Constitution Day and Citizenship Day” and authorized the President to issue a proclamation calling on United States officials to display the flag of the United States on all Government buildings on that day. By joint resolution of August 2, 1956 (36 U.S.C. 108), the Congress further requested that the President proclaim the week beginning September 17 and ending September 23 of each year as “Constitution Week.”

NOW, THEREFORE, I, JOSEPH R. BIDEN JR., President of the United States of America, by virtue of the authority vested in me by the Constitution and the laws of the United States, do hereby proclaim September 17, 2023, as Constitution Day and Citizenship Day, and September 17 through September 23 as Constitution Week. On this day and during this week, we celebrate our Constitution and the rights of citizenship that together we enjoy as the people of this proud Nation.

IN WITNESS WHEREOF, I have hereunto set my hand this fifteenth day of September, in the year of our Lord two thousand twenty-three, and of the Independence of the United States of America the two hundred and forty-eighth.

[FR Doc. 2023-20600

Filed 9-20-23; 8:45 am]

Billing code 3395-F3-P